DEPARTMENT OF TRANSPORTATION

National Highway Traffic Safety Administration

[Docket No. NHTSA-2016-0137; Notice 1]

Arconic Wheel and Transportation Products, Receipt of Petition for Decision of Inconsequential Noncompliance

AGENCY: National Highway Traffic Safety Administration, Department of Transportation (DOT).

ACTION: Receipt of petition.

SUMMARY: Arconic Wheel and Transportation Products, a business division of Arconic, Inc., formerly known as Alcoa, Inc. (Arconic), has determined that certain Alcoa aluminum wheels do not fully comply with Federal Motor Vehicle Safety Standard (FMVSS) No. 120, Tire Selection and Rims and Motor Home/Recreation Vehicle Trailer Load Carrying Capacity Information for Motor Vehicles with a GVWR of more than 4,536 kilograms (10,000 pounds). Alcoa, Inc. filed a noncompliance information report dated November 21, 2016. Arconic then petitioned NHTSA on December 5, 2016, for a decision that the subject noncompliance is inconsequential as it relates to motor vehicle safety.

DATES: The closing date for comments on the petition is July 5, 2017.

ADDRESSES: Interested persons are invited to submit written data, views, and arguments on this petition. Comments must refer to the docket and notice number cited in the title of this notice and submitted by any of the following methods:

• Mail: Send comments by mail addressed to U.S. Department of Transportation, Docket Operations, M-30, West Building Ground Floor, Room W12-140, 1200 New Jersey Avenue SE., Washington, DC 20590.

• Hand Delivery: Deliver comments by hand to U.S. Department of Transportation, Docket Operations, M-30, West Building Ground Floor, Room W12-140, 1200 New Jersey Avenue SE., Washington, DC 20590. The Docket Section is open on weekdays from 10 a.m. to 5 p.m. except Federal Holidays.

• Electronically: Submit comments electronically by logging onto the Federal Docket Management System (FDMS) Web site at https://www.regulations.gov/. Follow the online instructions for submitting comments.

• Comments may also be faxed to (202) 493-2251.

Comments must be written in the English language, and be no greater than 15 pages in length, although there is no limit to the length of necessary attachments to the comments. If comments are submitted in hard copy form, please ensure that two copies are provided. If you wish to receive confirmation that comments you have submitted by mail were received, please enclose a stamped, self-addressed postcard with the comments. Note that all comments received will be posted without change to https://www.regulations.gov, including any personal information provided.

All comments and supporting materials received before the close of business on the closing date indicated above will be filed in the docket and will be considered. All comments and supporting materials received after the closing date will also be filed and will be considered to the fullest extent possible.

When the petition is granted or denied, notice of the decision will also be published in the Federal Register pursuant to the authority indicated at the end of this notice.

All comments, background documentation, and supporting materials submitted to the docket may be viewed by anyone at the address and times given above. The documents may also be viewed on the Internet at https://www.regulations.gov by following the online instructions for accessing the dockets. The docket ID number for this petition is shown in the heading of this notice.

DOT's complete Privacy Act Statement is available for review in a Federal Register notice published on April 11, 2000, (65 FR 19477-78).

SUPPLEMENTARY INFORMATION:

I. Overview: Arconic Wheel and Transportation Products (Arconic), has determined that certain Alcoa aluminum wheels do not fully comply with paragraph S5.2(b) of Federal Motor Vehicle Safety Standard (FMVSS) No. 120, Tire Selection and Rims and Motor Home/Recreation Vehicle Trailer Load Carrying Capacity Information for Motor Vehicles with a GVWR of more than 4,536 kilograms (10,000 pounds). Alcoa, Inc. filed a noncompliance information report dated November 21, 2016, pursuant to 49 CFR part 573, Defect and Noncompliance Responsibility and Reports. Arconic then petitioned NHTSA on December 5, 2016, pursuant to 49 U.S.C. 30118(d) and 30120(h) and 49 CFR part 556, for an exemption from the notification and remedy requirements of 49 U.S.C. Chapter 301 on the basis that this noncompliance is inconsequential as it relates to motor vehicle safety.

This notice of receipt of Arconic's petition is published under 49 U.S.C. 30118 and 30120 and does not represent any agency decision or other exercise of judgment concerning the merits of the petition.

II. Equipment Involved: Approximately 1,975 Alcoa model 88367X aluminum wheels, size 22.5″ Dia. x 8.25″, produced for the heavy duty truck wheel market, and manufactured between August 1, 2016, and November 7, 2016, are potentially involved.

III. Noncompliance: Arconic explains that the noncompliance is that the wheel diameter was incorrectly marked on the subject wheels as 24.5″ x 8.25″, when it should have been marked as 22.5″ x 8.25″. This marking error overstates the wheel diameter by 2″. Therefore, the subject wheels do not meet the requirements of paragraph S5.2(b) of FMVSS No. 120.

IV. Rule Text: Paragraph S5.2(b) of FMVSS No. 120 states in pertinent part:

S5.2 Rim marking. Each rim or, at the option of the manufacturer in the case of a single-piece wheel, wheel disc shall be marked with the information listed in paragraphs (a) through (e) of this paragraph, in lettering not less than 3 millimeters high, impressed to a depth or, at the option of the manufacturer, embossed to a height of not less than 0.125 millimeters . . .

(b) The rim size designation, and in case of multipiece rims, the rim type designation. For example: 20x5.50, or 20x5.5.

V. Summary of Arconic's Petition: Arconic described the subject noncompliance and stated its belief that the noncompliance is inconsequential as it relates to motor vehicle safety.

In support of its petition, Arconic submitted the following reasoning:

1. If the mounting technician relied solely on the incorrectly stated 24.5″ diameter stamped on the rim and tried to mount a 24.5″ x 8.25″ tire, the tire will not inflate. Therefore, it would be obvious to the mounting technician that there is a tire/rim mismatch, because the air will immediately escape during inflation and no tire/rim seal will ever be achieved. Heavy-duty truck rim diameter sizes in the U.S. market are in increments 19.5″, 22.5″ and 24.5″, so any tire diameter other than 22.5″ will simply not mount and/or inflate on the mismarked 24.5″ rim.

2. All product literature that accompanies the mislabeled 24.5″ x 8.25″ aluminum wheels correctly identifies the wheel as having a 22.5″ diameter. The part number stamped on the wheels correctly associates the wheels in catalogs (hard copy and electronic) as having a 22.5″ diameter. The vast majority of the affected wheels were sold for assembly on new heavy-duty semi-tractors and it is believed the certification label, tire pressure placard and all other literature accompanying the vehicle correctly states the required wheel diameter as 22.5″.

3. The vast majority of the affected wheels were sold for assembly on new heavy-duty semi-tractors, which means the selection of tires and wheels during assembly does not require reliance on the actual size markings on the wheel. Rather, this selection is based upon part number matching during the tire/wheel subassembly process, and the part number descriptions correctly reflect the actual wheel size of 22.5″ x 8.25″. Only one manufacturer, a trailer manufacturer, actually noticed the mismarking of the rim diameter. The remaining manufacturers that undertook tire and rim assembly were unaffected by rim mismarking.

4. If a vehicle owner or operator must replace one of the affected rims they would most likely go to a facility that is familiar with tire/wheel replacements for heavy-duty trucks. Pursuant to 29 CFR 1910.177(c) (Employee Training), federal regulations require that only trained technicians are permitted to mount tires and wheels on heavy-duty vehicles and it should be obvious to the technician when a wheel marking is overstated by 2″.

5. For rims that have an obvious incorrect size marking stamped into the wheel, the technician will have to rely on another source for the correct rim size including, when applicable, the certification label, tire pressure placard or any other literature to determine the correct wheel and tire size for the replacement.

6. Because a tire/rim seal cannot be achieved with an overstated 2″ rim diameter, there is no risk to the technician during attempted tire mounting operations.

7. All other roll stamp rim marking information on the subject rims required by S5.2 of FMVSS No. 120 is correct. The rim is marked with the correct rim width, manufacturer, date of manufacture, and DOT.

8. The agency has previously found to be inconsequential a noncompliance with the rim marking requirements of FMVSS No. 110 Tire selection and rims and motor home/recreation vehicle trailer load carrying capacity information for motor vehicles with a GVWR of 4,536 kilograms (10,000 pounds) or less (citing Docket No. NHTSA-1999-6685, July 5, 2000).

9. Arconic is not aware of any crashes or injuries associated with this roll stamp rim marking issue.

Arconic states that they have corrected the roll stamp for all future production.

Arconic concluded by expressing the belief that the subject noncompliance is inconsequential as it relates to motor vehicle safety, and that its petition to be exempted from providing notification of the noncompliance, as required by 49 U.S.C. 30118, and a remedy for the noncompliance, as required by 49 U.S.C. 30120, should be granted.

NHTSA notes that the statutory provisions (49 U.S.C. 30118(d) and 30120(h)) that permit manufacturers to file petitions for a determination of inconsequentiality allow NHTSA to exempt manufacturers only from the duties found in sections 30118 and 30120, respectively, to notify owners, purchasers, and dealers of a defect or noncompliance and to remedy the defect or noncompliance. Therefore, any decision on this petition only applies to the subject wheels that Arconic no longer controlled at the time it determined that the noncompliance existed. However, any decision on this petition does not relieve equipment distributors and dealers of the prohibitions on the sale, offer for sale, or introduction or delivery for introduction into interstate commerce of the noncompliant wheels under their control after Arconic notified them that the subject noncompliance existed.

Authority: (49 U.S.C. 30118, 30120: delegations of authority at 49 CFR 1.95 and 501.8)

Jeffrey M. Giuseppe,
Director, Office of Vehicle Safety Compliance.

[FR Doc. 2017-11525 Filed 6-2-17; 8:45 am]

BILLING CODE 4910-59-P